DEPARTMENT OF COMMERCE

International Trade Administration

[A-351-842]

Certain Uncoated Paper From Brazil: Final Results of Antidumping Duty Administrative Review; 2022-2023

AGENCY: Enforcement and Compliance, International Trade Administration, Department of Commerce.

SUMMARY: The U.S. Department of Commerce (Commerce) determines that Suzano S.A. (Suzano) made sales of subject merchandise at prices below normal value (NV) during the period of review (POR) March 1, 2022, through February 28, 2023. Commerce also determines that Sylvamo do Brasil Ltda. and Sylvamo Exports Ltda. (collectively, Sylvamo) did not make sales of subject merchandise at prices below normal NV the POR.

DATES: Applicable August 16, 2024.

FOR FURTHER INFORMATION CONTACT: Christopher Maciuba or Nathan James, AD/CVD Operations, Office V, Enforcement and Compliance, International Trade Administration, Department of Commerce, 1401 Constitution Avenue NW, Washington, DC 20230; telephone (202) 482-0413 or (202) 482-5305, respectively.

SUPPLEMENTARY INFORMATION:

Background

On April 5, 2024, Commerce published the Preliminary Results.¹ On May 6, 2024, Commerce issued a questionnaire to which Suzano timely responded on May 23, 2024.² On June 6, 2024, Commerce notified interested parties of the deadline for the submission of case and rebuttal briefs.³ No interested party submitted comments on the Preliminary Results. Commerce conducted this review in accordance with section 751 of the Tariff Act of 1930, as amended (the Act). Commerce made no changes from the Preliminary Results, which are herein adopted as the final results of review. Additionally, because these final results remain unchanged from the Preliminary Results, no memorandum accompanies this notice.

¹ See Certain Uncoated Paper from Brazil: Preliminary Results of Antidumping Duty Administrative Review; 2022-2023, 89 FR 23971 (April 5, 2024) (Preliminary Results), and accompanying Preliminary Decision Memorandum (PDM).

² See Suzano's Letter, “Suzano's Supplemental Questionnaire Response,” dated May 23, 2024.

³ See Memorandum, “Briefing Schedule for the Final Results,” dated June 6, 2024.

Scope of the Order ⁴

⁴ See Certain Uncoated Paper from Australia, Brazil, Indonesia, the People's Republic of China, and Portugal: Amended Final Affirmative Antidumping Determinations for Brazil and Indonesia and Antidumping Duty Orders, 81 FR 11174 (March 3, 2016) (Order).

The merchandise covered by the Order is uncoated paper from Brazil. For a complete description of the scope of the Order, see the Preliminary Results PDM.

Final Results of Review

We determine that the following estimated weighted-average dumping margins exist for the POR, March 1, 2022, through February 28, 2023:

Exporter/producer | Weighted- average dumping margin (percent)
Suzano S.A | 3.49
Sylvamo do Brasil Ltda/Sylvamo Exports Ltda | 0.00

Disclosure

Because we made no changes to the calculations performed in connection with the Preliminary Results, there are no new calculations to disclose, in accordance with 19 CFR 351.224(b), for these final results.

Assessment Rates

Pursuant to section 751(a)(2)(C) of the Act, and 19 CFR 351.212(b)(1), Commerce has determined, and U.S. Customs and Border Protection (CBP) shall assess, antidumping duties on all appropriate entries covered by this review.

Because Suzano's weighted-average dumping margin is not zero or de minimis (i.e., less than 0.5 percent), we calculated importer-specific ad valorem assessment rates based on the ratio of the total amount of dumping calculated for the examined sales to the total entered value of the sales. Where an importer-specific assessment rate is zero or de minimis, we will instruct CBP to liquidate the appropriate entries without regard to antidumping duties. For Sylvamo, because its weighted-average dumping margin is zero, we will instruct CBP to liquidate entries reported in this review without regard to antidumping duties.

Consistent with Commerce's assessment practice, for entries of subject merchandise during the POR produced by Suzano or Sylvamo for which they did not know their merchandise was destined for the United States, we will instruct CBP to liquidate unreviewed entries at the all-others rate if there is no rate for the intermediate company(ies) involved in the transaction.⁵

⁵ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rates for Suzano and Sylvamo will be the rates established in the final results of this administrative review; (2) for previously reviewed or investigated companies not listed above, the cash deposit rate will continue to be the company-specific rate published for the most recently completed segment of this proceeding; (3) if the exporter is not a firm covered in this review, a prior review, or the original less-than-fair-value (LTFV) investigation, but the producer is, the cash deposit rate will be the rate established for the most recently completed segment of this proceeding for the producer of the subject merchandise; and (4) the cash deposit rate for all other manufacturers or exporters will continue to be 27.11 percent, the all-others rate established in the LTFV investigation.⁶ These cash deposit requirements, when imposed, shall remain in effect until further notice.

⁶ See Order.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a final reminder to parties subject to an administrative protective order (APO) of their responsibility concerning the disposition of proprietary information disclosed under APO in accordance with 19 CFR 351.305(a)(3), which continues to govern business proprietary information in this segment of the proceeding. Timely written notification of the return/destruction of APO materials, or conversion to judicial protective order, is hereby requested. Failure to comply with the regulations and terms of an APO is a violation which is subject to sanction.

Notification to Interested Parties

We are issuing and publishing this notice in accordance with sections 751(a)(1) and 777(i) of the Act, and 19 CFR 351.221(b)(5).

Dated: August 9, 2024.
Ryan Majerus,
Deputy Assistant Secretary for Policy and Negotiations, performing the non-exclusive functions and duties of the Assistant Secretary for Enforcement and Compliance.

[FR Doc. 2024-18383 Filed 8-15-24; 8:45 am]

BILLING CODE 3510-DS-P